SECURITIES AND EXCHANGE COMMISSION

Submission for OMB Review; Comment Request

Upon written request, copies available from: Securities and Exchange Commission, Office of Filings and Information Services, Washington, DC 20549.

Extension:

Form T-6—OMB Control No. 3235-0391—SEC File No. 270-344;

Form 11-K—OMB Control No. 3235-0082—SEC File No. 270-101;

Form 144—OMB Control No. 3235-0101—SEC File No. 270-112.

Notice is hereby given that pursuant to the Paperwork Reduction Act of 1995 (44 U.S.C. 3501 et seq.) the Securities and Exchange Commission (“Commission”) has submitted to the Office of Management and Budget the requests for extension of the previously approved collections of information discussed below.

Form T-6 (OMB Control No. 3235-0391, SEC File No. 270-344) is a statement of eligibility and qualification for a foreign corporate trustee under the Trust Indenture Act of 1939. Form T-6 provides the basis for determining if a trustee is qualified. Form T-6 is filed on occasion. The information collected must be filed with the Commission and is publicly available. Form T-6 takes approximately 17 burden hours to be prepared and is filed by 15 respondents. It is estimated that 25% of the 255 total burden hours (64 hours) is prepared by the filer. The remaining 75% of burden hours is prepared by outside counsel.

Form 11-K (OMB Control No. 3235-0082; SEC File No. 270-101) is the annual report designed for use by employee stock purchase, savings and similar plans to facilitate their compliance with the reporting requirement. The Form 11-K is necessary to provide employees with information, including financial information, with respect to the investment vehicle or plan itself. Also, Form 11-K provides employees with the necessary information to assess the performance of the investment vehicle in which their money is invested. Form 11-K is filed on occasion. The information collected must be filed with the Commission and is publicly available. Form 11-K takes approximately 30 burden hours to prepare and is filed by 2,300 respondents for a total of 69,000 burden hours.

Form 144 (OMB 3235-0101; SEC File No. 270-112) is used to report the sale of securities during any three-month period that exceeds 500 shares or other units or has an aggregate sales price in excess of $10,000. Form 144 operates in conjunction with Rule 144. If the information collection was not required, the objectives of the rule could not be met. The information collected must be filed with the Commission and is publicly available. Form 144 takes approximately 2 burden hours to prepare and is filed by 18,096 respondents for a total of 36,192 total burden hours.

An agency may not conduct or sponsor, and a person is not required to respond to, a collection of information unless it displays a currently valid control number.

Written comments regarding the above information should be directed to the following persons: (i) Desk Officer for the Securities and Exchange Commission, Office of Information and Regulatory Affairs, Office of Management and Budget, Room 10202, New Executive Office Building, Washington, DC 20503; and (ii) Kenneth A. Fogash, Acting Associate Executive Director/CIO, Office of Information Technology, Securities and Exchange Commission, 450 Fifth Street, NW., Washington, DC 20549. Comments must be submitted to OMB within 30 days of this notice.

Dated: October 2, 2003.
Margaret H. McFarland,
Deputy Secretary.

[FR Doc. 03-25511 Filed 10-7-03; 8:45 am]

BILLING CODE 8010-01-P